DEPARTMENT OF VETERANS AFFAIRS

National Research Advisory Council; Notice of Meeting

The Department of Veterans Affairs (VA) gives notice under Public Law 92-463 (Federal Advisory Committee Act) that the National Research Advisory Council will hold a meeting on Wednesday, February 1, 2006, in room 900 at the Greenhoot Cohen Building, 1722 I Street, NW., Washington, DC. The meeting will convene at 8:30 a.m. and conclude by 3 p.m. The meeting is open to the public.

The purpose of the Council is to provide external advice and review for VA's research mission.

The agenda will include a review of and discussion about the NRAC annual report for 2005, an overview of research, education, and clinical centers, and an update on deployment health and Gulf War research.

Any member of the public wishing to attend the meeting or wishing further information should contact Ms. Karen Scott, Designated Federal Officer, at (352) 392-8066. Oral comments from the public will not be accepted at the meeting. Written statements or comments should be transmitted electronically to karen.scott@va.gov.

Dated: January 13, 2006.
By direction of the Secretary.
E. Philip Riggin,
Committee Management Officer.

[FR Doc. 06-604 Filed 1-23-06; 8:45 am]

BILLING CODE 8320-01-M